NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on March 1 and 2, 2004. An announcement of this meeting was originally made in the January 28, 2004 Federal Register. However, it is necessary to re-announce this meeting because the NRC staff has since determined that parts of the meeting must be closed to the public.

A sample of agenda items to be discussed during the public sessions includes: (1) Dose Reconstruction Subcommittee Findings in the St. Joseph Mercy Hospital Case; (2) Proposed Changes to Abnormal Occurrence Criteria; (3) Status of Rulemaking—Recognition of Specialty Board Certifications; and, (4) Defining Medical Events Involving Prostate Seed Implants. To review the agenda, see http://www.nrc.gov/ reading-rm/doc-collections/ acmui/schedules/2004/ or contact arw@nrc.gov.

Date and Time for Closed Session Meeting: March 1, 2004, from 8 a.m. to 10 a.m. This session will be closed so that NRC staff and the ACMUI may discuss ethical issues and security-related issues.

Dates and Times for Public Meetings: March 1, 2004, from 10 a.m. to 5 p.m.; and March 2, 2004, from 8 a.m. to 9 a.m. and from 1 p.m. to 5 p.m.

Date and Time for Commission Briefing: March 2, 2004, from 9:30 a.m. until 11:30 a.m. The public meetings and the Commission briefing will take place at the addresses provided below.

Address for Public Meetings: U.S. Nuclear Regulatory Commission, Two White Flint North Building, Auditorium, 11545 Rockville Pike, Rockville, MD 20852-2738.

Address for Commission Briefing: U.S. Nuclear Regulatory Commission, One White Flint North Building, Commissioners' Conference Room 1G16, 11555 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela R. Williamson, U.S. Nuclear Regulatory Commission, Two White Flint North, Mail Stop T8F5, 11545 Rockville Pike, Rockville, MD 20852-2738. Submittals must be postmarked by February 23, 2004, and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about March 22, 2004. Minutes of the meeting will be available on or about May 3, 2004.

This meeting will be held in accordance with the Atomic Energy Act of 1954, as amended (primarily Section 161a); the Federal Advisory Committee Act (5 U.S.C. App); and the Commission's regulations in Title 10, U.S. Code of Federal Regulations, part 7.

Dated: February 11, 2004.
Andrew L. Bates,
Advisory Committee Management Officer.

[FR Doc. 04-3444 Filed 2-17-04; 8:45 am]

BILLING CODE 7590-01-P